DEPARTMENT OF HEALTH AND HUMAN SERVICES

Health Resources and Services Administration

Agency Information Collection Activities: Submission to OMB for Review and Approval; Public Comment Request; Application and Other Forms Used by the National Health Service Corps (NHSC) Scholarship Program (SP), the NHSC Students to Service Loan Repayment Program (S2S LRP), and the Native Hawaiian Health Scholarship Program (NHHSP), OMB No. 0915-0146—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than July 15, 2020.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Application and Other Forms Used by the National Health Service Corps (NHSC) Scholarship Program (SP), the NHSC Students to Service Loan Repayment Program (S2S LRP), and the Native Hawaiian Health Scholarship Program (NHHSP).

OMB No. 0915-0146—Revision

Abstract: Administered by HRSA's Bureau of Health Workforce (BHW), the NHSC SP, NHSC S2S LRP, and the NHHSP provide scholarships or loan repayment to qualified students who are pursuing primary care health professions education and training. In return, students agree to provide primary health care services in underserved communities located in federally designated Health Professional Shortage Areas once they are fully trained and licensed health professionals. Awards are made to applicants who demonstrate the greatest potential for successful completion of their education and training as well as commitment to provide primary health care services to communities of greatest need. The information from program applications, forms, and supporting documentation is used to select the best qualified candidates for these competitive awards, and to monitor program participants' enrollment in school, postgraduate training, and compliance with program requirements.

Although some program forms vary from program to program (see program-specific burden charts below), required forms generally include: A program application, academic and non-academic letters of recommendation, the authorization to release information, and the acceptance/verification of good standing report. Additional forms for the NHSC SP include the data collection worksheet, which is completed by the educational institutions of program participants; the post-graduate training verification form (applicable for NHSC S2S LRP participants), which is completed by program participants and their residency director; and the enrollment verification form, which is completed by program participants and the educational institution for each academic term. The NHHSP program will add 3 new forms including the scholar enrollment verification, change in program curriculum and graduation documentation forms. These forms are completed by the grantee on behalf of the participant and the educational institution to verify the participant's enrollment status for each academic term, to provide notice of any change in the participant's program curriculum and to verify that NHHSP has met its financial obligation to pay tuition and related fees or to hold additional funds to cover any tuition balance or fees on the participant's student account.

Upon review of the 60-day notice, it was determined that The “Post Graduate Training Form” was accidentally included as a duplicate entry since it is already captured in the “NHSC awardees/schools/post graduate training programs/sites” section, which is the proper program for which it is used. Therefore, it was removed from the NHSC Students to Service Loan Repayment Program Application” section of the Estimated Burden Table.

A 60-day notice published in the Federal Register on March 9, 2020, vol. 85, No. 46; pp. 13662-13664. There was one public comment.

Need and Proposed Use of the Information: The NHSC SP, S2S LRP, and NHHSP applications, forms, and supporting documentation are used to collect necessary information from applicants that enable HRSA to make selection determinations for the competitive awards and monitor compliance with program requirements.

Likely Respondents: Qualified students who are pursuing education and training in primary care health professions and are interested in working in health professional shortage areas.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
NHSC Scholarship Program Application
NHSC Scholarship Program Application | 1,889 | 1 | 1,889 | 2.00 | 3,778.00
Letters of Recommendation | 1,889 | 2 | 3,778 | 1.00 | 3,778.00
Authorization to Release Information | 1,889 | 1 | 1,889 | .10 | 188.90
Acceptance/Verification of Good Standing Report | 1,889 | 1 | 1,889 | .25 | 472.25
Verification of Disadvantaged Background Status | 547 | 1 | 547 | .25 | 136.75
Total | * 1,889 |  | 9,992 |  | 8,353.9
NHSC awardees/schools/post graduate training programs/sites
Data Collection Worksheet | 400 | 1 | 400 | 1.00 | 400
Post Graduate Training Verification Form | 100 | 1 | 100 | .50 | 50
Enrollment Verification Form | 600 | 2 | 1,200 | .50 | 600
Total | * 600 |  | 1,700 |  | 1,050
NHSC Students to Service Loan Repayment Program Application
NHSC Students to Service Loan Repayment Program Application | 200 | 1 | 200 | 2.00 | 400.0
Letters of Recommendation | 200 | 2 | 400 | 1.00 | 400.0
Authorization to Release Information | 200 | 1 | 200 | .10 | 20.0
Acceptance/Verification of Good Standing Report | 200 | 1 | 200 | .25 | 50.0
Verification of Disadvantaged Background Status | 70 | 1 | 70 | .25 | 17.5
Total | * 150 |  | 1,070 |  | 887.50
Native Hawaiian Health Scholarship Program Application
Native Hawaiian Health Scholarship Program Application | 310 | 1 | 310 | 2.00 | 620.0
Letters of Recommendation | 310 | 2 | 620 | .25 | 155.0
Authorization to Release Information | 310 | 1 | 310 | .25 | 77.5
Acceptance/Verification of Good Standing Report | 30 | 1 | 30 | .25 | 7.5
Scholar Enrollment Verification Form | 30 | 7.5 | 225 | 0.50 | 112.5
Change in Program Curriculum Form | 30 | 2 | 60 | .25 | 15.0
NHHSP Graduation Documentation Form | 30 | 1 | 30 | 0.25 | 7.5
Total | * 310 |  | 1,585 |  | 995
* Please note that the same group of respondents may complete each form as necessary.
* Certain documents are submitted by a subset of respondents consistent with program requirements.

Maria G. Button,
Director, Executive Secretariat.

[FR Doc. 2020-12840 Filed 6-12-20; 8:45 am]

BILLING CODE 4165-15-P